SUSQUEHANNA RIVER BASIN COMMISSION

Actions Taken at September 14, 2023 Meeting

AGENCY: Susquehanna River Basin Commission.

ACTION: Notice.

SUMMARY: As part of its regular business meeting held on September 14, 2023, in Harrisburg, Pennsylvania, the Commission approved the applications of certain water resources projects and took additional actions, as set forth in the Supplementary Information below.

DATES: September 14, 2023.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: In addition to the actions taken on projects identified in the summary above and the listings below, the following items were also acted upon at the business meeting: (1) adoption of the budget for FY2025; (2) adoption of member allocations for FY2025; (3) approval of three grant agreements and one grant amendment; (4) adoption of a resolution on climate change; (5) adoption of a resolution regarding Artesian Water Maryland, Inc; and (6) acceptance a compliance settlement agreement.

Project Applications Approved

1. Project Sponsor and Facility: Bent Creek Country Club, Manheim Township, Lancaster County, Pa. Applications for renewal of groundwater withdrawal of up to 0.464 mgd (30-day average) from Well 1 (600 Foot Well) and consumptive use of up to 0.464 mgd (peak day) (Docket No. 19920704).

2. Project Sponsor and Facility: B.K.V. Operating, L.L.C. (East Branch Wyalusing Creek), Jessup Township, Susquehanna County, Pa. Application for renewal of surface water withdrawal of up to 0.999 mgd (peak day) (Docket No. 20180902).

3. Project Sponsor and Facility: Coterra Energy Inc. (Tunkhannock Creek), Nicholson Township, Wyoming County, Pa. Application for renewal of surface water withdrawal of up to 2.000 mgd (peak day) (Docket No. 20180903).

4. Project Sponsor and Facility: Dillsburg Area Authority, Carroll Township, York County, Pa. Application for renewal of groundwater withdrawal of up to 0.460 mgd (30-day average) from Well 7 (Docket No. 20070907).

5. Project Sponsor and Facility: Eagle Lake Community Association, Covington Township, Lackawanna County, Pa. Applications for groundwater withdrawals (30-day averages) of up to 0.233 mgd from Well 1, 0.315 mgd from Well 2, and 0.104 mgd from Well 3.

6. Project Sponsor and Facility: East Berlin Area Joint Authority, Hamilton Township, Adams County, Pa. Application for renewal of groundwater withdrawal of up to 0.130 mgd (30-day average) from Well 6 (Docket No. 20080950).

7. Project Sponsor and Facility: East Cocalico Township Authority, East Cocalico Township, Lancaster County, Pa. Application for renewal of groundwater withdrawal of up to 0.201 mgd (30-day average) from Well 14 (Docket No. 19981202).

8. Project Sponsor and Facility: EQT ARO LLC (Pine Creek), McHenry Township, Lycoming County, Pa. Application for renewal of surface water withdrawal of up to 0.499 mgd (peak day) (Docket No. 20180901).

9. Project Sponsor and Facility: Indian Hills Golf and Tennis Club, Shamokin Township, Northumberland County, Pa. Application for renewal of consumptive use of up to 0.099 mgd (30-day average) (Docket No. 19980504).

10. Project Sponsor and Facility: Inflection Energy (P.A.) L.L.C. (Loyalsock Creek), Upper Fairfield Township, Lycoming County, Pa. Application for renewal of surface water withdrawal of up to 1.700 mgd (peak day) (Docket No. 20221214).

11. Project Sponsor and Facility: Montgomery Water Authority, Clinton Township, Lycoming County, Pa. Modification to increase groundwater withdrawal (30-day average) from Well 3 by an additional 0.098 mgd for a total groundwater withdrawal of up to 0.318 mgd and increase the total system withdrawal limit (30-day average) from 0.492 mgd to 0.730 mgd from Wells 1, 3, and 4 (Docket No. 20210304).

12. Project Sponsor and Facility: Repsol Oil & Gas U.S.A., L.L.C. (Susquehanna River), Terry Township, Bradford County, Pa. Application for renewal of surface water withdrawal of up to 1.500 mgd (peak day) (Docket No. 20180909).

13. Project Sponsor and Facility: Repsol Oil & Gas U.S.A., L.L.C. (Wappasening Creek), Windham Township, Bradford County, Pa. Application for renewal of surface water withdrawal of up to 0.999 mgd (peak day) (Docket No. 20180910).

14. Project Sponsor and Facility: Seneca Resources Company, L.L.C. (Crooked Creek), Middlebury Township, Tioga County, Pa. Application for surface water withdrawal of up to 3.000 mgd (peak day).

15. Project Sponsor: South Slope Development Corporation. Project Facility: Song Mountain Ski Resort, Town of Preble, Cortland County, N.Y. Applications for renewal of surface water withdrawal of up to 0.999 mgd (30-day average) from an unnamed tributary to Crooked Lake, consumptive use of up to 0.249 mgd (30-day average), and groundwater withdrawal of up to 0.960 mgd (30-day average) from Well MW-3 (Docket No. 20070901).

16. Project Sponsor and Facility: S.T.L. Resources, L.L.C. (Pine Creek), Pike Township, Potter County, Pa. Application for surface water withdrawal of up to 3.000 mgd (peak day).

17. Project Sponsor: T & C Mobile Home & Construction Services, L.L.C. Project Facility: Glezen Mine, Town of Lisle, Broome County, N.Y. Application for consumptive use of up to 0.099 mgd (30-day average).

18. Project Sponsor and Facility: Village of Hamilton, Town of Hamilton, Madison County, N.Y. Applications for renewal of groundwater withdrawals (30-day averages) of up to 1.730 mgd from Payne Brook Well 1 and 1.500 mgd from Payne Brook Well 2 (Docket Nos. 19871101 and 19970706).

19. Project Sponsor and Facility: Village of Sidney, Town of Sidney, Delaware County, N.Y. Modification to extend the approval term of the groundwater withdrawal approval (Docket No. 19860201) to provide time for development of a replacement source for existing Well 2-88.

Projects Tabled

1. Project Sponsor: Borough of Middletown. Project Facility: Middletown Water System, Middletown Borough, Dauphin County, Pa. Application for renewal of groundwater withdrawal of up to 1.070 mgd (30-day average) from Well 6 (Docket No. 19970702)

2. Project Sponsor: Lucky Bear, L.L.C. Project Facility: Liberty Forge Golf Course (Yellow Breeches Creek), Lower and Upper Allen Townships, Cumberland County, Pa. Applications for renewal of surface water withdrawal of up to 0.432 mgd (peak day) and consumptive use of up to 0.375 mgd (peak day) (Docket No. 19980906).

3. Project Sponsor and Facility: Nicholas Meat, L.L.C., Greene Township, Clinton County, Pa. Applications for groundwater withdrawals (30-day averages) of up to 0.288 mgd from Well WS-1, 0.173 mgd from Well WS-3 and 0.144 mgd from Well WS-4.

Authority: Public Law 91-575, 84 Stat. 1509 et seq., 18 CFR parts 806, 807, and 808.

Dated: September 21, 2023.
Jason E. Oyler,
General Counsel and Secretary to the Commission.

[FR Doc. 2023-20839 Filed 9-25-23; 8:45 am]

BILLING CODE 7040-01-P